DEPARTMENT OF THE INTERIOR

National Park Service

[NPS-WASO-NRNHL-DTS#-38140; PPWOCRADI0, PCU00RP14.R50000]

National Register of Historic Places; Notification of Pending Nominations and Related Actions

AGENCY: National Park Service, Interior.

ACTION: Notice.

SUMMARY: The National Park Service is soliciting electronic comments on the significance of properties nominated before June 8, 2024, for listing or related actions in the National Register of Historic Places.

DATES: Comments should be submitted electronically by July 8, 2024.

ADDRESSES: Comments are encouraged to be submitted electronically to National_Register_Submissions@nps.gov with the subject line “Public Comment on <property or proposed district name, (County) State>.” If you have no access to email, you may send them via U.S. Postal Service and all other carriers to the National Register of Historic Places, National Park Service, 1849 C Street NW, MS 7228, Washington, DC 20240.

FOR FURTHER INFORMATION CONTACT: Sherry A. Frear, Chief, National Register of Historic Places/National Historic Landmarks Program, 1849 C Street NW, MS 7228, Washington, DC 20240, sherry_frear@nps.gov, 202-913-3763.

SUPPLEMENTARY INFORMATION: The properties listed in this notice are being considered for listing or related actions in the National Register of Historic Places. Nominations for their consideration were received by the National Park Service before June 8, 2024. Pursuant to section 60.13 of 36 CFR part 60, comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State or Tribal Historic Preservation Officers.

Key: State, County, Property Name, Multiple Name (if applicable), Address/Boundary, City, Vicinity, Reference Number.

CALIFORNIA

San Diego County

Arnold and Choate's Addition—North Florence Heights Historic District, Roughly bounded by Stephens Street, Eagle Street, Washington Place/Fort Stockton Drive, and Plumosa Way/Barr Avenue, San Diego, SG100010531

KANSAS

Douglas County

Ninth Street Missionary Baptist Church, 847 Ohio Street, Lawrence, SG100010526

LOUISIANA

Iberville Parish, Towles-Musso House, 775 River Road, St. Gabriel, SG100010517

Lafayette Parish, Travelodge Motel, 1101 West Pinhook Road, Lafayette, SG100010518

Orleans Parish, St. Claude General Hospital, 3419 St. Claude Avenue, New Orleans, SG100010515

Ouachita Parish, Price's Beauty Shop, 2101 Grammont Street, Monroe, SG100010514

Rapides Parish, Shiloh Baptist Church, 930 Washington Street, Alexandria, SG100010516

OHIO

Butler County

Cincinnati, Hamilton, and Dayton Railroad Station, 409 Maple Avenue, Hamilton, SG100010527

Hamilton County

Kerper and Melbourne Terrace Apartments, (Apartment Buildings in Ohio Urban Centers, 1870-1970 MPS), 3066-3092 Kerper Avenue and 3066-3084 Melbourne Terrace, Cincinnati, MP100010530

OKLAHOMA

Pushmataha County

Frisco Railroad Depot, NW corner, intersection of Pine Street and Depot Road, Clayton, SG100010524

PENNSYLVANIA

Berks County

Kutztown Silk Mill, 40 Willow Street, Kutztown, SG100010535

UTAH

Uintah County

Wong Sing Warehouse, 7267 E US-40/191, Fort Duchesne, SG100010522

Weber County

Bramwell, George Walter Jr. and Isabelle, House, 4442 W 2350 North, Plain City, SG100010536

WASHINGTON

King County

Continental Hotel, 315 Seneca Street, Seattle, SG100010525

WISCONSIN

Fond Du Lac County

Little White Schoolhouse, 1074 West Fond du Lac Street, Ripon, SG100010533

An owner objection received for the following resource(s):

CONNECTICUT

Fairfield County

Church Hill Historic District, 293 Elm St; 2 Locust Ave; 4-61 Main St; 183 Oenoke Lane; 5-40 Oenoke Ridge; 0-63 Park Street and Extension; 18-130 and 132 Seminary St; 7-88 St. John Place, New Canaan, SG100010529

A request for removal has been made for the following resource(s):

GEORGIA

Spalding County

Hunt House, 232 S 8th St., Griffin, OT73002142

Additional documentation has been received for the following resource(s):

MINNESOTA

Koochiching County

Oberholtzer, Ernest C., Rainy Lake Islands Historic District (Additional Documentation), Mallard, Hawk and Crow Islands in Rainy Lake, Ranier vicinity, AD00000570

OHIO

Hamilton County

Union Baptist Cemetery (Additional Documentation), 4933 Cleves Warsaw Pike, Cincinnati, AD02001057

TENNESSEE

Williamson County

Winstead Hill (Additional Documentation), 4023 Columbia Avenue, Franklin vicinity, AD74001930

Authority: Section 60.13 of 36 CFR part 60.

Sherry A. Frear,
Chief, National Register of Historic Places/National Historic Landmarks Program.

[FR Doc. 2024-13685 Filed 6-20-24; 8:45 am]

BILLING CODE 4312-52-P